DEPARTMENT OF DEFENSE

Department of the Navy

32 CFR Part 765

RIN 0703-AA62

Rules Applicable to the Public

AGENCY: Department of the Navy, DOD.

ACTION: Final rule.

SUMMARY: This amendment updates the regulation pertaining to rewards for Navy and Marine Corps absentee to identify proper forms and authorities.

DATES: Effective September 1, 2000.

ADDRESSES: Office of the Judge Advocate General (Code 13), 1322 Patterson Ave SE., Suite 3000, Washington Navy Yard, DC 20374-5066.

FOR FURTHER INFORMATION CONTACT: Lieutenant Commander James Roth, JAGC, USN, Head, Regulations and Legislation, FOIA/PA Branch, Administrative Law Division, Office of the Judge Advocate General (Code 13), 1322 Patterson Ave SE, Suite 3000, Washington Navy Yard, DC 20374-5066. Phone (703) 604-8200.

SUPPLEMENTARY INFORMATION: This amended rule provides updated information pursuant changes made to Department of Defense regulation, DOD 7000.14-R, Financial Management Regulation, Volume 10. This amendment is being published by the Department of the Navy for guidance and interest of the public in accordance with 5 U.S.C. 552(a)(1). It has been determined that invitation of public comment on this amendment would be impracticable and unnecessary, and it is therefore not required under the public rulemaking provisions of 32 CFR Part 336 or Secretary of the Navy Instruction 5720.45. Interested persons, however, are invited to comment in writing on this amendment. All written comments will be considered in making subsequent amendments or revisions of 32 CFR 762, or the instructions on which it is based. Changes may be initiated on the basis of comments received. Written comments should be addressed to Lieutenant Commander James L. Roth, JAGC, USN, Head, Regulations and Legislation, FOIA/PA Branch, Administrative Law Division, Office of the Judge Advocate General (Code 13), 1322 Patterson Ave SE, Suite 3000, Washington Navy Yard, DC 20374-5066. It has been determined that this final rule is not a “significant regulatory action” as defined in Executive Order 12866.

Executive Order 13132, Federalism

It has been determined that this rule does not have sufficient Federalism implications to warrant the preparation of a Federalism Assessment. The provisions contained in this rule will have little or no direct effect on States or local governments.

Regulatory Flexibility Act

This rule will not have a significant economic impact on a substantial number of small entities for purposes of the Regulatory Flexibility Act (5 U.S.C. Chapter 6).

Paperwork Reduction Act

This rule does not impose collection of information requirements for purposes of the Paperwork Reduction Act (44 U.S.C. Chapter 35, 5 CFR Part 1320).

List of Subjects in 32 CFR 765

Federal buildings and facilities, Military law, National defense, Seals and insignia, Security measures.

For the reasons set forth in the preamble, amend part 765 of title 32 of the Code of Federal Regulations as follows:

PART 765—RULES APPLICABLE TO THE PUBLIC

1. The authority citation for part 765 is revised to read as follows:

Authority: Secs. 5031, 6011, 70A Stat. 278, 375, as amended; sec. 133, 76 Stat. 517; sec. 301, 80 Stat. 379; 5 U.S.C. 301, 10 U.S.C. 133, 956, 5031, 6011, 7881; DOD 7000.14-R, Financial Management Regulation, Vol. 10.

2. In § 765.12, revise the second sentence of paragraph (a)(2), (b)(1)(i), and the last sentences of (b)(2) and (c)(2) to read as follows:

§ 765.12 Navy and Marine Corps absentees; rewards.

* * * * *

(a) * * *

(2) * * * Payment of rewards will be made on SF 1034 or NAVCOMPT Form 2277 supported by a copy of DD Form 553 or other form or notification that an individual is absent and that his return to military control is desired, and a statement signed by the claimant specifying that he apprehended (or accepted voluntary surrender) and detained the absentee or deserter until military authorities assumed control, or that he apprehended (or accepted voluntary surrender) and delivered the absentee or deserter to military control. * * *

(b) * * *

(1) * * *

(i) Transportation costs, including mileage at the rate established by the Joint Travel Regulation for travel by privately owned vehicle, for a round trip from either the place of apprehension or civil police headquarters to place of return to military control;

* * * * *

(b) * * *

(2) * * * Reimbursement will be effected on SF 1034 or NAVCOMPT Form 2277 supported by an itemized statement in triplicate signed by the claimant and approved by the commanding officer.

(c) * * *

(2) * * * Reimbursement will be effected on SF 1034 or NAVCOMPT Form 2277 supported by an itemized statement signed by the claimant and approved by the officer who requested the confinement.

* * * * *

Dated: August 23, 2000.
C. G. Carlson,
Major, U.S. Marine Corps, Alternate Federal Register Liaison Officer.

[FR Doc. 00-22444 Filed 8-31-00; 8:45 am]

BILLING CODE 3810-FF-U